DEPARTMENT OF AGRICULTURE

Commodity Credit Corporation

Foreign Agricultural Service

Notice of Request for Revision of Currently Approved Information Collection

AGENCY: Foreign Agricultural Service and Commodity Credit Corporation, USDA.

ACTION: Notice and request for comments.

SUMMARY: In accordance with the Paperwork Reduction Act of 1995, this notice announces the Commodity Credit Corporation's (CCC) intention to request a revision from the Office of Management and Budget (OMB) for a currently approved information collection process in support of the Foreign Market Development (FMD) Program and the Market Access Program (MAP).

DATES: Comments on this notice must be received by May 13, 2019 to be assured of consideration.

ADDRESSES: You may send comments, identified by Document Number, by any of the following methods:

• Federal eRulemaking Portal: http://www.regulations.gov. Follow the instructions for sending comments.

• Email: podadmin@fas.usda.gov. Include document number in the subject line of the message.

• Fax: (202) 720-9361.

• Mail: 1400 Independence Avenue SW, Room 6512, Washington, DC 20250.

Instructions: All submissions received must include the agency names and document number for this notice. All comments received will be posted without change to regulations.gov, including any personal information provided.

FOR FURTHER INFORMATION CONTACT: Curt Alt, (202) 720-4327, podadmin@fas.usda.gov.

SUPPLEMENTARY INFORMATION:

Title: Foreign Market Development Program and Market Access Program.

OMB Number: 0551-0026.

Expiration Date of Approval: April 30, 2019.

Type of Request: Revision of a currently approved information collection. The estimated number of responses per respondent and estimated total annual burden on respondents is increasing.

Abstract: The primary objective of the FMD and MAP programs is to encourage and aid in the creation, maintenance, and expansion of commercial export markets for U.S. agricultural products through cost-share assistance to eligible organizations. The programs are a cooperative effort between CCC and eligible organizations. Currently, there are approximately 67 organizations participating directly in the programs with activities in more than 100 countries.

Prior to initiating program activities, each FMD or MAP participant must submit a detailed application to the Foreign Agricultural Service (FAS) which includes an assessment of overseas market potential; market or country strategies, constraints, goals, and benchmarks; proposed market development activities; estimated budgets; and performance measurements. Each FMD or MAP participant is also responsible for submitting: (1) Reimbursement claims for approved costs incurred in carrying out approved activities, (2) an end-of-year contribution report, (3) travel reports, and (4) progress reports/evaluation studies. FMD or MAP participants must maintain records on all information submitted to FAS. In addition, each FMD or MAP participant is required to submit the following forms: AD-1047, AD-1049, AD-1052, AD-3030, AD-3031, SF-424, SF-424A, SF-424B, SF-LLL disclosure of lobbying activities, and certification regarding lobbying. The information collected is used by FAS to manage, plan, evaluate, and account for government resources. The reports and records are required to ensure the proper and judicious use of public funds.

Estimate of Burden: Public reporting burden for this collection of information is currently estimated to average 20 hours per response.

Respondents: Non-profit agricultural trade organizations, state regional trade groups, agricultural cooperatives, and state agencies.

Estimated Number of Respondents: 67.

Estimated Number of Responses per Respondent: 68.

Estimated Total Annual Burden on Respondents: 89,324 hours.

Copies of this information collection can be obtained from Connie Ehrhart, the Agency Information Collection Coordinator, at (202) 690-1578.

Request for Comments: Send comments regarding the accuracy of the burden estimate, ways to minimize the burden, including through the use of automated collection techniques or other forms of information technology, or any other aspect of this collection of information to: Director, Program Operations Division, Foreign Agricultural Service, Room 6510, STOP 1042, 1400 Independence Avenue SW, Washington, DC 20250. Facsimile submissions may be sent to (202) 720-9361 and electronic mail submissions should be addressed to: podadmin@fas.usda.gov.

All responses to this notice will be summarized and included in the request for OMB approval. All comments will also become a matter of public record.

February 22, 2019.
Robert Stephenson,
Executive Vice President, Commodity Credit Corporation.
Dated: February 22, 2019.
Kenneth Isley,
Administrator, Foreign Agricultural Service.

[FR Doc. 2019-04439 Filed 3-11-19; 8:45 am]

BILLING CODE 3410-10-P